DEPARTMENT OF ENERGY

Federal Energy Regulatory Commission

[Docket No. IC02-510-001, FERC-510]

Commission Information Collection Activities; Comment Request; Submitted for OMB Review

August 20, 2002.

AGENCY: Federal Energy Regulatory Commission, DOE.

ACTION: Notice.

SUMMARY: In compliance with the requirements of section 3507 of the Paperwork Reduction Act of 1995, 44 U.S.C. 3507, the Federal Energy Regulatory Commission (Commission) has submitted the information collection described below to the Office of Management and Budget (OMB) for review and extension of the current expiration date. Any interested person may file comments directly with OMB and should address a copy of those comments to the Commission as explained below. The Commission received no comments in response to an earlier Federal Register notice of May 31, 2002 (67 FR 38086) and has made this notation in its submission to OMB.

DATES: Comments on the collection of information are due by September 22, 2002.

ADDRESSES: Address comments on the collection of information to the Office of Management and Budget, Office of Information and Regulatory Affairs, Attention: Federal Energy Regulatory Commission Desk Officer, 725 17th Street, NW., Washington, DC 20503. A copy of the comments should also be sent to the Federal Energy Regulatory Commission, Office of the Chief Information Officer, CI-1, Attention: Michael Miller, 888 First Street NE., Washington, DC 20426. Comments may be filed either in paper format or electronically. Those persons filing electronically do not need to make a paper filing. For paper filings, such comments should be submitted to the Office of the Secretary, Federal Energy Regulatory Commission, 888 First Street, NE., Washington, DC 20426 and should refer to Docket No. IC02-510-001.

Documents filed electronically via the Internet must be prepared in WordPerfect, MS Word, Portable Document Format, or ASCII format. To file the document, access the Commission's website at www.ferc.gov and click on “Make an E-filing,” and then follow the instructions for each screen. First time users will have to establish a user name and password. The Commission will send an automatic acknowledgment to the sender's E-mail address upon receipt of comments. User assistance for electronic filings is available at 202-208-0258 or by e-mail to efiling@ferc.fed.us. Comments should not be submitted to the e-mail address.

All comments may be viewed, printed or downloaded remotely via the Internet through FERC's homepage using the FERRIS link. User assistance for FERRIS is available at 202-502-8222, or by e-mail to contentmaster@ferc.fed.us.

FOR FURTHER INFORMATION CONTACT: Michael Miller may be reached by telephone at (202)502-8415, by fax at (202)208-2425, and by e-mail at michael.miller@ferc.gov.

SUPPLEMENTARY INFORMATION:

Description

The information collected submitted for OMB review contains:

1. Collection of Information: FERC-510 Application for Surrender of a Hydropower License”.

2. Sponsor: Federal Energy Regulatory Commission.

3. Control No.: 1902-0068.

The Commission is now requesting that OMB approve a three-year extension of the current expiration date, with no changes to the existing collection. There is an adjustment only to the reporting burden. These are mandatory information collection requirements and the Commission does not consider the information to be confidential.

4. Necessity of the Collection of Information: Submission of the information is necessary to enable the Commission to carry out its responsibilities in implementing the statutory provisions of part 1, sections 4(e), 6 and 13 of te Federal Power Act, 16 U.S.C. 797(e), 799 and 806. Section 4(e) gives the Commission the authority to issue licenses for the purpose of constructing, operating and maintaining dams, water conduits, reservoirs, powerhouses, transmission lines or other project works necessary or convenient for developing and improving navigation, transmission and utilization of power over which Congress has jurisdiction. Section 6 gives the Commission the authority to prescribe the conditions of the licenses including the revocation and/or surrender of the license. Section 13 defines the Commission's authority to delegate time periods for when a license must be terminated if project construction has not begun. Surrender of a license may be desired by a licensee when a licensed project is retired or not constructed. The information is collected by FERC in the form of a written application for surrender of a hydropower license, which is then used by Commission staff to determine the broad impact of such a surrender. FERC carefully reviews the prepared application, solicits public and agency comments through the issuance of a public notice, and prepares the Surrender of License Order. The order is the result of an analysis of the information produced, i.e., economic, environmental, etc. which is then examined to determine if the application is warranted. The Commission implements these filing requirements in the Code of Federal Regulations (CFR) under 18 CFR sections 6.1 through 6.4.

5. Respondent Description: The respondent universe currently comprises 8 companies (on average) subject to the Commission's jurisdiction.

6. Estimated Burden: 80 total hours, 8 respondents, 1 response per respondent, 10 hours per response (average).

7. Estimated Cost Burden to respondents: 80 hours / 2080 hours per years x $117,041 per year = $4,502. The cost per respondent is equal to $563.00.

Statutory Authority : Sections 4(e), 6 and 13 of te Federal Power Act, 16 U.S.C. 797(e), 799 and 806.

Linwood A. Watson, Jr.,
Deputy Secretary.

[FR Doc. 02-21720 Filed 8-26-02; 8:45 am]

BILLING CODE 6717-01-P